DEPARTMENT OF TRANSPORTATION

Federal Aviation Administration

14 CFR Part 39

[Docket No. 99-SW-06-AD; Amendment 39-12282; AD 2001-13-02]

RIN 2120-AA64

Airworthiness Directives; Bell Helicopter Textron Canada Model 407 Helicopters

AGENCY: Federal Aviation Administration, DOT.

ACTION: Final rule.

SUMMARY: This amendment adopts a new airworthiness directive (AD) for Bell Helicopter Textron Canada (BHTC) Model 407 helicopters that requires replacing certain cockpit warning horns. This amendment is prompted by reports that pilots have had difficulty in distinguishing between the FADEC Fail horn, the Engine Out horn, and the Low Rotor RPM horn. The actions specified by this AD are intended to assist the pilot in properly identifying a specific cockpit warning horn (horn) and prevent an inappropriate pilot response to a horn, which could cause an engine overspeed and subsequent uncommanded reduction to flight-idle engine power.

DATES: Effective August 1, 2001.

The incorporation by reference of certain publications listed in the regulations is approved by the Director of the Federal Register as of August 1, 2001.

ADDRESSES: The service information referenced in this AD may be obtained from Bell Helicopter Textron Canada, 12,800 Rue de l'Avenir, Mirabel, Quebec JON1LO, telephone (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Sharon Miles, Aviation Safety Engineer, FAA, Rotorcraft Directorate, Rotorcraft Regulations Group, Fort Worth, Texas 76193, telephone (817) 222-5122, fax (817) 222-5961.

SUPPLEMENTARY INFORMATION: A proposal to amend part 39 of the Federal Aviation Regulations (14 CFR part 39) to include an airworthiness directive (AD) for BHTC Model 407 helicopters was published in the Federal Register on March 14, 2001 (66 FR 14865). That action proposed to require replacing the FADEC Fail horn, the Engine Out horn, and the Low Rotor RPM horn.

Interested persons have been afforded an opportunity to participate in the making of this amendment. No comments were received on the proposal or the FAA's determination of the cost to the public. The FAA has determined that air safety and the public interest require the adoption of the rule as proposed.

The FAA estimates that 200 helicopters of U.S. registry will be affected by this AD, that it will take approximately 2.5 work hours per helicopter to replace the horns, and that the average labor rate is $60 per work hour. Required parts will cost approximately $154. Based on these figures, the total cost impact of the proposed AD on U.S. operators is estimated to be $60,800 to replace the horns in all the fleet.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-13-02 Bell Helicopter Textron Canada: Amendment 39-12282. Docket No. 99-SW-06-AD.

Applicability: Model 407 helicopters, serial numbers 53000 through 53194, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 90 calendar days, unless accomplished previously.

To assist the pilot in properly identifying a specific warning horn (horn) and prevent an inappropriate pilot response to a horn, which could cause an engine overspeed and subsequent uncommanded reduction to flight-idle engine power, accomplish the following:

(a) Remove and replace the following horns and install the specified terminal junctions in accordance with the Accomplishment Instructions in Bell Helicopter Textron Alert Service Bulletin No. 407-97-12, dated October 7, 1997:

Part Name | Current Part Number | Replacement Part No.
(1) FADEC Fail Horn | SC648S | VSB628CP
(2) Low Rotor RPM Horn | SC628 | SC628N
(3) Engine Out Horn | SC628P | SC628NP
(4) Terminal Junction (2) |  | M81714/65-22-11

(b) An alternative method of compliance or adjustment of the compliance time that provides an acceptable level of safety may be used if approved by the Manager, Rotorcraft Regulations Group, Rotorcraft Directorate, FAA. Operators shall submit their requests through an FAA Principal Maintenance Inspector, who may concur or comment and then send it to the Manager, Rotorcraft Regulations Group.

Note 2: Information concerning the existence of approved alternative methods of compliance with this AD, if any, may be obtained from the Rotorcraft Regulations Group.

(c) Special flight permits may be issued in accordance with §§ 21.197 and 21.199 of the Federal Aviation Regulations (14 CFR 21.197 and 21.199) to operate the helicopter to a location where the requirements of this AD can be accomplished.

(d) The modification shall be done in accordance with the Accomplishment Instructions in Bell Helicopter Textron Alert Service Bulletin No. 407-97-12, dated October 7, 1997. This incorporation by reference was approved by the Director of the Federal Register in accordance with 5 U.S.C. 552(a) and 1 CFR part 51. Copies may be obtained from Bell Helicopter Textron Canada, 12,800 Rue de l'Avenir, Mirabel, Quebec JON1LO, telephone (800) 363-8023, fax (450) 433-0272. Copies may be inspected at the FAA, Office of the Regional Counsel, Southwest Region, 2601 Meacham Blvd., Room 663, Fort Worth, Texas; or at the Office of the Federal Register, 800 North Capitol Street, NW., suite 700, Washington, DC.

(e) This amendment becomes effective on August 1, 2001.

Note 3: The subject of this AD is addressed in Transport Canada (Canada) AD No. CF-98-13, effective August 7, 1998.

Issued in Fort Worth, Texas, on June 13, 2001.
Eric Bries,
Acting Manager, Rotorcraft Directorate, Aircraft Certification Service.

[FR Doc. 01-15793 Filed 6-26-01; 8:45 am]

BILLING CODE 4910-13-U